DEPARTMENT OF TRANSPORTATION

Federal Aviation Administration

14 CFR Part 39

[Docket No. 2000-NM-413-AD; Amendment 39-12652; AD 2002-03-11]

RIN 2120-AA64

Airworthiness Directives; Airbus Model A319, A320, and A321 Series Airplanes

AGENCY: Federal Aviation Administration, DOT.

ACTION: Final rule.

SUMMARY: This amendment supersedes an existing airworthiness directive (AD), applicable to certain Airbus Model A319, A320, and A321 series airplanes, that currently requires a one-time ultrasonic inspection to detect disbonding of the skin attachments at the stringers and spars of the vertical stabilizer, repair, if necessary, and, for certain airplanes, prior or concurrent modification of the vertical stabilizer to ensure proper reinforcement of its attachment to the skin. This amendment adds repetitive ultrasonic inspections of the subject area, and repair, if necessary. It also adds installation of fasteners to reinforce the bonds to the skin, which terminates the repetitive inspections. This amendment is prompted by issuance of mandatory continuing airworthiness information by a foreign civil airworthiness authority. The actions specified by this AD are intended to prevent failure of the bonds of the vertical stabilizer spar boxes to the skin, which could lead to reduced structural integrity of the spar boxes.

DATES: Effective March 19, 2002.

The incorporation by reference of certain publications listed in the regulations is approved by the Director of the Federal Register as of March 19, 2002.

The incorporation by reference of certain other publications listed in the regulations was approved previously by the Director of the Federal Register as of June 28, 2000 (65 FR 37029, June 13, 2000).

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) by superseding AD 2000-11-27, amendment 39-11776 (65 FR 37029, June 13, 2000), which is applicable to certain Airbus Model A319, A320, and A321 series airplanes, was published in the Federal Register on September 4, 2001 (66 FR 46243). The action proposed to continue to require a one-time ultrasonic inspection to detect disbonding of the skin attachments at the stringers and spars of the vertical stabilizer, and repair, if necessary. For certain airplanes, the action also proposed to continue to require prior or concurrent modification of the vertical stabilizer to ensure proper reinforcement of its attachment to the skin. The action proposed to add repetitive ultrasonic inspections of the subject area, and repair, as necessary. It also proposed to add installation of fasteners to reinforce the bonds to the skin, which would terminate the repetitive inspections.

Comments

Interested persons have been afforded an opportunity to participate in the making of this amendment. Due consideration has been given to the comments received.

Remove Modification Number From Applicability Statement

One commenter, the airplane manufacturer, requests that the FAA revise the proposed AD to remove the modification number from the applicability statement. The commenter notes that the referenced modification is not valid for production airplanes.

The FAA concurs with the commenter's request and has revised the applicability statement of this final rule accordingly. We find that this change does not expand the scope of the proposed AD but merely provides clarification by eliminating redundancy.

Give Credit for Fastener Installation per Other Service Information

One commenter requests that we revise the proposed AD to refer to Airbus Service Bulletin A320-55-1028, Revision 02, dated July 26, 2000, as an acceptable source of service information for accomplishment of the installation of fasteners specified in paragraph (f) of the proposed AD. Paragraph (f) of the proposed AD refers to Airbus Service Bulletin A320-55-1028, Revision 03, dated November 2, 2000, as the appropriate source of service information for the installation of new fasteners. The commenter states that no substantive procedural changes were made from Revision 02 to Revision 03 of the service bulletin, and no additional work is necessary for airplanes on which Revision 02 was accomplished. Revision 03 merely clarifies recommendations for repeat inspections if the modification is only partially accomplished.

We concur with the commenter's request for the reasons specified by the commenter. Also, since the issuance of the proposed AD, Airbus has issued Service Bulletin A320-55-1028, Revision 04, dated April 13, 2001. The procedures in Revision 04 of the service bulletin are essentially the same as those in Revision 03. Therefore, we have revised paragraph (f) of this AD to specify that fastener installation must be accomplished in accordance with Airbus Service Bulletin A320-55-1028, Revision 04. Also, we have added a new note, Note 2, to this final rule and renumbered subsequent notes accordingly, to give credit for accomplishment of the installation of fasteners prior to the effective date of this AD in accordance with Airbus Service Bulletin A320-55-1028, Revision 02 (based on the commenter's request), or Revision 03. We have also revised the applicability statement of this final rule to exclude airplanes on which Airbus Service Bulletin A320-55-1028, Revision 02, Revision 03, or Revision 04, has been accomplished, from the applicability of this AD. (The applicability statement of the proposed AD states that airplanes on which Airbus Service Bulletin A320-55-1028, Revision 03, has been accomplished are not subject to this AD.)

Request To Revise Proposed Compliance Time for Modification

The commenter requests that we revise the compliance time of paragraph (f) of the proposed AD to refer to “5 years from the ‘entry in service’ of the airplane” instead of “5 years after the date of manufacture of the airplane.” The commenter points out that the date of manufacture is the date of the first flight of the airplane, whereas the date of “entry into service” is the date of delivery of the airplane. The difference between these dates could be one month or more. The commenter recommends that we make this change to avoid operator questions.

We do not concur. For clarification, we define the “date of manufacture” as the date of issuance of the Certificate of Airworthiness. We find that this constitutes a definitive date when all of the manufacturing processes are completed. We have determined that this date should be readily discernible by operators, and no change to the final rule is necessary in this regard.

Explanation of Additional Changes to Final Rule

In addition to the changes described previously, several typographical errors have been corrected in this final rule.

Conclusion

After careful review of the available data, including the comments noted above, the FAA has determined that air safety and the public interest require the adoption of the rule with the changes previously described. The FAA has determined that these changes will neither increase the economic burden on any operator nor increase the scope of the AD.

Cost Impact

There are approximately 23 Model A319, A320, and A321 series airplanes of U.S. registry that will be affected by this AD.

The repetitive inspections in this AD will take approximately 3 to 7 work hours per airplane to accomplish, at an average labor rate of $60 per work hour. Based on these figures, the cost impact on U.S. operators of the repetitive inspections required by this AD is estimated to be $4,140 to $9,660, or $180 to $420 per airplane, per inspection cycle.

The installation of fasteners in this AD will take approximately 5 to 480 work hours per airplane to accomplish, depending upon the configuration of the airplane, at an average labor rate of $60 per work hour. Required parts will be provided by the airplane manufacturer at no cost to operators. Based on these figures, the cost impact on U.S. operators of the installation required in this AD is estimated to be $6,900 to $662,400, or $300 to $28,800 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11776 (65 FR 37029, June 13, 2000), and by adding a new airworthiness directive (AD), amendment 39-12652, to read as follows:

2002-03-11 Airbus Industrie: Amendment 39-12652. Docket 2000-NM-413-AD. Supersedes AD 2000-11-27, Amendment 39-11776.

Applicability: Model A319, A320, and A321 series airplanes; certificated in any category; as listed in Airbus Service Bulletin A320-55A1027, dated May 13, 2000, Revision 01, dated August 1, 2000, or Revision 02, dated February 13, 2001; except those airplanes on which Airbus Service Bulletin A320-55-1028, Revision 02, dated July 26, 2000, Revision 03, dated November 2, 2000, or Revision 04, dated April 13, 2001; has been accomplished.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (g)(1) of this AD. The request should include an assessment of the effect of the modification, alteration, or repair on the unsafe condition addressed by this AD; and, if the unsafe condition has not been eliminated, the request should include specific proposed actions to address it.

Compliance: Required as indicated, unless accomplished previously.

To prevent failure of the bonds of the vertical stabilizer spar box to the skin, which could lead to reduced structural integrity of the spar boxes, accomplish the following:

Restatement of Requirements of AD 2000-11-27

Ultrasonic Inspection

(a) Within 60 days after June 28, 2000 (the effective date of AD 2000-11-27, amendment 39-11776): Perform a one-time ultrasonic inspection to detect disbonding (damage) of the skin attachments at the stringers and spars of the vertical stabilizer, left- and right-hand sides, in accordance with Airbus Service Bulletin A320-55A1027, dated May 13, 2000; Revision 01, dated August 1, 2000; or Revision 02, dated February 13, 2001.

Modification (for Certain Airplanes)

(b) For airplanes with manufacturer's serial numbers listed in paragraph B of the Planning Information of Airbus Service Bulletin A320-55A1027, dated May 13, 2000; Revision 01, dated August 1, 2000; or Revision 02, dated February 13, 2001: Prior to or concurrent with the ultrasonic inspection required by paragraph (a) of this AD, modify the vertical stabilizer to ensure proper reinforcement of the structure/skin attachments, in accordance with Airbus Service Bulletin A320-55-1026, Revision 01, dated May 20, 1999.

New Requirements of This AD

Repetitive Inspections and Repair, If Necessary

(c) Within 1,100 flight cycles from the previous inspection performed in accordance with paragraph (a) of this AD, or 60 days after the effective date of this AD, whichever occurs later: Perform an ultrasonic inspection to detect disbonding of the skin attachment at the spars and the stringers of the vertical stabilizer spar box, in accordance with Airbus Service Bulletin A320-55A1027, dated May 13, 2000; Revision 01, dated August 1, 2000; or Revision 02, dated February 13, 2001.

(d) If no damage is detected, or if only a single area of damage is found and it is less than or equal to an area of 300 square millimeters (mm²) during any ultrasonic inspection required by this AD, repeat the ultrasonic inspection thereafter at intervals not to exceed 1,100 flight cycles.

(e) If any damage is detected and the area of damage found is greater than 300 mm², or if multiple areas of damage are found on one specific component (stringer/spar attachment) during any ultrasonic inspection required by this AD, prior to further flight, accomplish applicable repairs in accordance with Airbus Service Bulletin A320-55A1027, dated May 13, 2000; Revision 01, dated August 1, 2000; or Revision 02, dated February 13, 2001. Repeat the ultrasonic inspection thereafter at intervals not to exceed 1,100 flight cycles.

Modification

(f) Within 5 years after the date of manufacture of the airplane: Install fasteners to reinforce the attachment between the skin panel and areas of the vertical stabilizer affected by disbonding, in accordance with Airbus Service Bulletin A320-55-1028, Revision 04, dated April 13, 2001. Accomplishment of the installation terminates the repetitive inspections required by paragraph (c) of this AD.

Note 2: Installations accomplished prior to the effective date of this AD in accordance with Airbus Service Bulletin A320-55-1028, Revision 02, dated July 26, 2000, or Revision 03, dated November 2, 2000, are considered acceptable for compliance with paragraph (f) of this AD.

Alternative Methods of Compliance

(g)(1) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

(2) Alternative methods of compliance, approved previously in accordance with AD 2000-11-27, amendment 39-11776, are approved as alternative methods of compliance with paragraphs (a) and (b) of this AD.

Note 3: Information concerning the existence of approved alternative methods of compliance with this AD, if any, may be obtained from the International Branch, ANM-116.

Special Flight Permits

(h) Special flight permits may be issued in accordance with §§ 21.197 and 21.199 of the Federal Aviation Regulations (14 CFR 21.197 and 21.199) to operate the airplane to a location where the requirements of this AD can be accomplished.

Incorporation by Reference

(i) The actions shall be done in accordance with Airbus Service Bulletin A320-55-1026, Revision 01, dated May 20, 1999; Airbus Service Bulletin A320-55A1027, dated May 13, 2000, Airbus Service Bulletin A320-55A1027, Revision 01, dated August 1, 2000, or Airbus Service Bulletin A320-55A1027, Revision 02, dated February 13, 2001; and Airbus Service Bulletin A320-55-1028, Revision 04, dated April 13, 2001.

(1) The incorporation by reference of Airbus Service Bulletin A320-55A1027, Revision 01, dated August 1, 2000; Airbus Service Bulletin A320-55A1027, Revision 02, dated February 13, 2001; and Airbus Service Bulletin A320-55-1028, Revision 04, dated April 13, 2001; is approved by the Director of the Federal Register in accordance with 5 U.S.C. 552(a) and 1 CFR part 51.

(2) The incorporation by reference of Airbus Service Bulletin A320-55-1026, Revision 01, dated May 20, 1999; and Airbus Service Bulletin A320-55A1027, dated May 13, 2000; was approved previously by the Director of the Federal Register as of June 28, 2000 (65 FR 37029, June 13, 2000).

(3) Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directive 2000-520-159(B), dated December 13, 2000.

Effective Date

(j) This amendment becomes effective on March 19, 2002.

Issued in Renton, Washington, on February 7, 2002.
Vi L. Lipski,
Manager, Transport Airplane Directorate, Aircraft Certification Service.

[FR Doc. 02-3455 Filed 2-11-02; 8:45 am]

BILLING CODE 4910-13-P